FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received no later than July 5, 2013.

A. Federal Reserve Bank of Atlanta (Chapelle Davis, Assistant Vice President) 1000 Peachtree Street NE., Atlanta, Georgia 30309:

1. The Amanda Marie Rios 2012 Irrevocable Trust, Paul Roberts, Trustee; The Amy Beth Windle Oakley 2012 Irrevocable Trust, Paul Roberts, Trustee; The John David Windle 2012 Irrevocable Trust, Paul Roberts, Trustee; The Mark Edward Windle 2012 Irrevocable Trust, Paul Roberts, Trustee; and The Thomas Alfred Windle 2012 Irrevocable Trust, Paul Roberts, Trustee, all of Livingston, Tennessee; to join the currently approved control, group of The Jack Windle Irrevocable Life Insurance Trust, Joyce D. Windle, John D. Copeland, and Thomas A. Windle, as a trustee Trustees; The Credit Shelter Trust under the Last Will and Testament of Jack Allen Windle, Joyce D. Windle, John D. Copeland, and Thomas A. Windle, Trustees, and The Tennessee Qualified Terminable Interest Trust; Joyce D. Windle, John D. Copeland, and Thomas A. Windle, Trustees, for Overton Financial Services, Inc., all of Livingston, Tennessee. Collectively, the new control group controls 100 percent of the outstanding stock of Overton Financial Services and its subsidiary, Union Bank & Trust Company, both in Livingston, Tennessee.

Board of Governors of the Federal Reserve System, June 14, 2013.
Margaret McCloskey Shanks,
Deputy Secretary of the Board.

[FR Doc. 2013-14635 Filed 6-19-13; 8:45 am]

BILLING CODE 6210-01-P